COMMITTEE FOR PURCHASE FROM PEOPLE WHO ARE BLIND OR SEVERELY DISABLED

Correction of Notice

The Committee for Purchase From People Who Are Blind or Severely Disabled published on August 8, 2008 at 73 FR 46244-46245 Notice of actions to add services to the Procurement List which included an incorrect nonprofit agency as authorized Sub-Contractor for Mailroom Operations at 880 Front Street, San Diego, CA for the Internal Revenue Service (FR Doc. E8-18363, Filed 8-7-08).

This Notice corrects the authorized nonprofit agency as San Diego Outsourcing Systems, Inc., San Diego, CA (Sub-Contractor) to replace Goodwill Industries of Southern California, Los Angeles, CA.

The Committee for Purchase From People Who Are Blind or Severely Disabled published on January 30, 2009 at 74 FR 5636-5637 Notice of actions to propose products and services for addition to and deletion from the Procurement List which included an incorrect nonprofit agency as authorized producer of Liner, Parka, U.S. Navy in 26 sizes listed by National Stock Number (FR Doc. E9-2032, Filed 1-29-09).

This Notice corrects the authorized nonprofit agency as Bestwork Industries for the Blind, Inc., Runnemede, NJ to replace Winston-Salem Industries for the Blind, Winston-Salem, NC.

Barry S. Lineback,
Acting Director, Program Operations.

[FR Doc. E9-3138 Filed 2-12-09; 8:45 am]

BILLING CODE 6353-01-P